DEPARTMENT OF COMMERCE

International Trade Administration

[A-201-805]

Certain Circular Welded Non-Alloy Steel Pipe and Tube from Mexico; Extension of Time Limit for Final Results of Antidumping Duty Changed Circumstances Review

AGENCY: Import Administration, International Trade Administration, Department of Commerce.

SUMMARY: The Department of Commerce (the Department) finds that it is not practicable to complete the final results of this changed circumstances review within the original time frame as it would be impossible to consider the parties comments and to complete the final results of this changed circumstances review within the original time frame. Accordingly, the Department is extending the time limit for completion of the final results of this changed circumstances review by 31 days to August 17, 2009.

FOR FURTHER INFORMATION CONTACT: John Drury or Brian Davis, AD/CVD Operations, Office 7, Import Administration, International Trade Administration, U.S. Department of Commerce, 14th Street and Constitution Avenue, NW, Washington, DC 20230; telephone: (202) 482-0195 or (202) 482-7924, respectively.

SUPPLEMENTARY INFORMATION:

Background

On October 27, 2008, the Department published its notice of initiation of antidumping duty changed circumstances review. See Notice of Initiation of Antidumping Duty Changed Circumstances Review: Circular Welded Non-Alloy Steel Pipe and Tube from Mexico, 73 FR 63682 (October 27, 2008) (Notice of Initiation). On June 18, 2009, the Department preliminarily determined that Ternium is the successor-in-interest to Hylsa and should be treated as such for antidumping duty cash deposit purposes. See Notice of Preliminary Results of Antidumping Duty Changed Circumstances Review: Certain Circular Welded Non-Alloy Steel Pipe and Tube from Mexico, 74 FR 28883 (June 18, 2009) (Preliminary Results).

Extension of Time Limits for Final Results

The antidumping statute does not provide for a specific time limit for completing a changed circumstances review. However, under 19 CFR 351.216(e), the Department will issue the final results of a changed circumstances review within 270 days after the date on which the Department initiates the changed circumstances review. Currently, the final results of the antidumping duty changed circumstances review, which cover Hylsa, a producer/exporter of certain circular welded non-alloy steel pipe and tube from Mexico, and its successor Ternium, are due by July 17, 2009.

In the Preliminary Results, we stated that interested parties could request a hearing and submit case briefs to the Department no later than 30 days after the publication of the Preliminary Results, and submit rebuttal briefs, limited to the issues raised in those case briefs, five days subsequent to the case briefs' due date. As comments are currently due no later than July 20, 2009,¹ and the final results are currently due July 17, 2009, it would be impossible to consider the parties comments and to complete the final results of this changed circumstances review within the original time frame. Accordingly, pursuant to 19 CFR 351.302(b), the Department is extending the time limit for completion of the final results of this changed circumstances review by 31 days to August 17, 2009. See, e.g., Certain Pasta from Italy: Notice of Extension of Final Results of Antidumping Duty Changed Circumstances Review, 73 FR 46871 (August 12, 2008) and Polyethylene Terephthalate Film Sheet and Strip from the Republic of Korea: Extension of Time Limit for Final Results of Changed Circumstances Review, 73 FR 6931 (February 6, 2008).

¹ Day 30 falls on a Saturday. Therefore, interested parties have until Monday, July 20, 2009, to request a hearing and submit case briefs to the Department.

This notice is issued and published in accordance with sections 751(b) and 777(i) of the Tariff Act of 1930, as amended.

Dated: July 8, 2009.
John M. Andersen,
Acting Deputy Assistant Secretary, for Antidumping and Countervailing Duty Operations.

[FR Doc. E9-16651 Filed 7-13-09; 8:45 am]

BILLING CODE 3510-DS-S